DEPARTMENT OF HOUSING AND URBAN DEVELOPMENT

[Docket No. FR-4491-C-14]

Corrected Notice of Availability of a Draft Environmental Impact Statement for the Salishan Revitalization Project, City of Tacoma, WA

AGENCY: Office of the Assistant Secretary for Community Planning and Development, HUD.

ACTION: Corrected notice.

SUMMARY: This document republishes and corrects a notice appearing in the Federal Register on August 27, 2003 (68 FR 51588). The Department of Housing and Urban Development gives notice to the public, agencies, and Indian tribes that the City of Tacoma, WA acting under its authority as the Responsible Entity for compliance with the National Environmental Policy Act (NEPA) in accordance with 24 CFR 58.4, and jointly the City of Tacoma and Tacoma Housing Authority (THA) acting under their authority as lead agencies in accordance with the State Environmental Policy Act (SEPA) (RCW 43.21) that a Draft Environmental Impact Statement (DEIS) for the redevelopment of the Salishan housing project will be available for review and comment on September 5, 2003. This notice is given in accordance with the Council on Environmental Quality regulations at 40 CFR parts 1500-1508.

Notice is also given that the City of Tacoma as Responsible Entity has decided to combine the National Historic Preservation Act, Section 106 process with the NEPA Environmental Impact Statement (EIS) in accordance with 36 CFR 800.8(c). Comments are also being requested on the Section 106 information presented in the Draft EIS as well as on the Section 106 process itself.

DATES: Comments Due Date: Comments must be received on or before October 19, 2003. Written comments on the Draft EIS should be addressed to the individual named below under the heading For Further Information Contact.

Public Meeting: A public comment meeting will be held during the comment period in order to ensure public participation. The public meeting will be held on September 22, 2003, from 5 p.m. to 8 p.m. (childcare and language translation services will be available at the meeting). The public comment meeting will be held at the following location: Tacoma Housing Authority, Salishan Meeting Rooms, 1724 E. 44th Street, Tacoma, Washington 98404.

FOR FURTHER INFORMATION CONTACT: The DEIS is available on the Internet and can be viewed or downloaded at: http://govme.cityoftacoma.org/govme/panelBeta/permitInfo/LandUse/landUse.aspx. Copies of the DEIS are also available from: Karie Hayashi, Land Use Administration Planner, City of Tacoma, 747 Market Street, Tacoma, Washington, 98402; Phone (253) 591-5387; FAX: (253) 591-5433; e-mail: khayashi@cityoftacoma.org.

SUPPLEMENTARY INFORMATION: The Salishan Public Housing Development (Salishan) was originally constructed in 1942 as war-time housing. Located in what is known as the East Side neighborhood, Salishan is bordered on the west by Portland Avenue and on the east by Swan Creek. There are currently 786 housing units on the site, of which 778 are occupied, and other related community/social service buildings.

In 2000, THA submitted a successful HOPE VI grant application for the redevelopment of Salishan. The amount of the HOPE VI grant awarded in connection with the Salishan revitalization project was $35 million. Under the proposed Revitalization Plan, existing housing will be demolished and Salishan will be redeveloped into a mixed-use, mixed-income community of approximately 1,270 to 1,500 units. The project will require the relocation of all existing residents. The new unit mix will incorporate low-income, affordable, and market rate housing with single- and multi-family dwellings, and senior and special needs housing. The redevelopment project will also include a mixture of commercial uses and improvements to community facilities such as expanding the existing health clinic, day care, family investment center, and gymnasium. Alternatives to be considered in the EIS include a no action alternative, a 1,270-unit alternative, and a 1,500-unit development.

Questions may be directed to the individual named above under the heading For Further Information Contact.

Dated: August 29, 2003.
Patricia Carlile,
Deputy Assistant Secretary for Special Needs.

[FR Doc. 03-22534 Filed 8-29-03; 1:55 pm]

BILLING CODE 4210-29-P